DEPARTMENT OF COMMERCE

International Trade Administration

[A-583-830]

Notice of Extension of Time Limit for the Preliminary Results of the Antidumping Duty Administrative Review: Stainless Steel Plate in Coils from Taiwan

AGENCY: Import Administration, International Trade Administration, Department of Commerce.

ACTION: Notice of extension of time limit for the preliminary results of antidumping duty administrative review of stainless steel plate in coils from Taiwan.

SUMMARY: The Department of Commerce (“the Department”) is extending the time limit of the preliminary results of the antidumping duty administrative review of stainless steel plate in coils from Taiwan.

EFFECTIVE DATE: March 21, 2003.

FOR FURTHER INFORMATION CONTACT: Catherine Bertrand, AD/CVD Enforcement, Group III, Office 9, Import Administration, International Trade Administration, U.S. Department of Commerce, 14th Street and Constitution Avenue, NW, Washington DC 20230; telephone: (202) 482-3207.

SUPPLEMENTARY INFORMATION:

Background

On May 6, 2002, the Department of Commerce (“Department”) published a notice of opportunity to request an administrative review of the Antidumping Duty Order on Stainless Steel Plate in Coils from Taiwan for the period May 1, 2001 through April 30, 2002. See Notice of Opportunity to Request Administrative Review of Antidumping or Countervailing Duty Order, Finding, or Suspended Investigation, 67 FR 30356 (May 6, 2002). On May 31, 2002, petitioners, Allegheny Ludlum, AK Steel Corporation, Butler Armco Independent Union, United Steel Workers of American, AFL-CIO/CLC, and Zanesville Armco Independent Organization, requested that the Department conduct an administrative review. On June 25, 2002, in accordance with section 751(a) of the Tariff Act of 1930, as amended (“the Act”), the Department published in the Federal Register a notice of initiation of this antidumping duty administrative review of sales by Yieh United Steel Corporation (“YUSCO”) and Ta Chen Stainless Pipe Company, Ltd. (“Ta Chen”) for the period May 1, 2001 through April 30, 2002. See Notice of Initiation of Antidumping and Countervailing Duty Administrative Reviews and Request for Revocation In Part, 67 FR 42753 (June 25, 2002). On February 5, 2003, the Department extended the preliminary results of this administrative review by 60 days. See Stainless Steel Plate in Coils from Taiwan: Extension of Time Limit for the Preliminary Results of the Antidumping Duty Administrative Review 68 FR 5869 (February 5, 2003). The preliminary results are currently due no later than April 1, 2003.

Extension of Time Limit for Preliminary Results

Pursuant to section 751(a)(3)(A) of the Act, and section 351.213(h)(2) of the Department's regulations, the Department may extend the deadline for completion of the preliminary results of a review if it determines that it is not practicable to complete the preliminary results within the statutory time limit of 245 days from the date on which the review was initiated. After the development of the record in this case, the Department finds it necessary to collect more information and data. The Department conducted a customs inquiry in this case. As a result of this preliminary communication with the Customs Service, the Department was recently made aware of certain information that was not previously on the record. The Department needs additional time to gather information from the respondent and the U.S. Customs Service. For these reasons, the Department has determined that it is not practicable to complete this review within the original time period provided in section 751(a)(3)(A) of the Act and section 351.213(h)(2) of the Department's regulations. Therefore, we are extending the due date for the preliminary results by 60 days, until no later than June 2, 2003. The final results continue to be due 120 days after the publication of the preliminary results.

Dated March 13, 2003.
Barbara E. Tillman,
Acting Deputy Assistant Secretary for Import Administration, Group III.

[FR Doc. 03-6844 Filed 3-20-02; 8:45 am]

BILLING CODE 3510-DS-S